NATIONAL COUNCIL ON DISABILITY

Sunshine Act Meeting Notice

Type: Quarterly meeting.

Date and Time: March 9, 2012, 9 a.m.-5 p.m.

Location: 1177 Avenue of the Americas, New York, NY 10036.

Status: The meeting on March 9 will be open to the public.

Matters to be Considered: The agenda for the board meeting includes an update on the Council's various reports including the annual progress report, a discussion on several funding proposals including a project focused on the subminimum wage and competitive integrated employment, a public comment session, a presentation by Peter Blanck, Chairman of the Burton Blatt Institute at Syracuse University, to provide an update on emerging issues in regards to disability law, policy, and research such as equal access to technology and opportunities for competitive integrated employment and other items to be determined. A public comment session will be held on Friday, March 9, 2012 from 1:30 p.m. until 2 p.m.

Interested parties may join the meeting in a listening-only capacity (with the exception of the public comment period) using the following call-in information: Call-in number: 888-428-9505. The passcode is “NCD Meeting.” Written comments on disability-related issues of concern or interest may be mailed to NCD's office at 1331 F Street NW., Suite 850, Washington, DC 20004 or faxed to the NCD office at (202) 272-2022. Comments may also be emailed to PublicComment@ncd.gov at any time.

Contact Person for more Information: Lawrence Carter-Long, NCD, 1331 F Street NW., Suite 850, Washington, DC 20004; 202-272-2004 (V), 202-272-2074 (TTY).

Accommodations: Those who plan to attend and require accommodations should notify NCD as soon as possible to allow time to make arrangements.

Dated: February 23, 2012.
Aaron Bishop,
Executive Director.

[FR Doc. 2012-4714 Filed 2-23-12; 4:15 pm]

BILLING CODE P